DEPARTMENT OF ENERGY

Notice of Modifications to the Preferred Alternatives for Tank Waste Treatment and Disposal of Off Site Waste in the Draft Tank Closure and Waste Management Environmental Impact Statement for the Hanford Site, Richland, WA

AGENCY: Department of Energy.

ACTION: Modification of Preferred Alternatives.

SUMMARY: The U.S. Department of Energy (DOE) is modifying its preferred alternatives for tank waste treatment and also for disposal of off-site waste in the Draft Tank Closure and Waste Management Environmental Impact Statement for the Hanford Site, Richland, Washington (Draft EIS, DOE/EIS-00391), made available for public comment on October 30, 2009 (74 FR 56194). This Draft EIS has been prepared in accordance with the National Environmental Policy Act (NEPA) and its implementing regulations. The public comment period for the Draft EIS extends to March 19, 2010.

In this Draft EIS, DOE analyzed, as a reasonable alternative, treating and sending waste from specific tanks to the Waste Isolation Pilot Plant (WIPP), in Carlsbad, New Mexico, as mixed transuranic (TRU) waste. DOE is now expressing its preference that no Hanford tank wastes would be shipped to WIPP. These wastes would be retrieved and treated in the Waste Treatment Plant (WTP) being constructed at Hanford. The State of Washington Department of Ecology (Ecology), a cooperating agency on the EIS, has revised its Foreword to the Draft EIS in response to this modification to the preferred alternative for tank waste. That revision can be found under SUPPLEMENTARY INFORMATION.

In addition, consistent with DOE's preference regarding receipt at Hanford of off-site low-level radioactive waste (LLW) and low-level mixed waste (MLLW), DOE would not ship Greater-Than-Class-C (GTCC) LLW to Hanford at least until the WTP is operational (DOE is analyzing disposal of GTCC LLW in a separate EIS).

ADDRESSES: The Draft EIS is available electronically through, and written comments can be submitted at, TC&WMEIS@saic.com, or by faxing to (1-888) 785-2865. Paper copies may be obtained by request to the EIS website or by contacting: Mary Beth Burandt, Document Manager, TC & WM EIS comments, Office of River Protection, P.O. Box 1178, Richland, Washington 99352.

The Draft EIS is also available at DOE's NEPA Web site at http://www.gc.energy.gov/nepa.

Written comments may be mailed to the document manager at the address above. Further, DOE will accept oral as well as written comments on the Draft EIS during public hearings to be announced soon in the Federal Register and local media.

FOR FURTHER INFORMATION CONTACT: For further information on the Draft EIS, contact Ms. Burandt at the address above or by telephone, at (1-888) 829-6347. For further information on DOE's NEPA process, contact: Carol M. Borgstrom, Director, Office of NEPA Policy and Compliance, Office of General Counsel, U.S. Department of Energy, Washington, DC 20585-0103, Telephone: (202) 586-4600, or leave a message at (800) 472-2756.

Further information on the Draft EIS is also available through the Hanford Web site at: http://www.hanford.gov/orp.

SUPPLEMENTARY INFORMATION: The Draft Tank Closure and Waste Management Environmental Impact Statement has been prepared in accordance with NEPA and its implementing regulations. The Draft EIS analyzes alternatives for proposed actions in three major areas related to the cleanup of the Hanford Site. These are: (1) Retrieving and treating radioactive waste from 177 underground storage tanks at Hanford and closure of the 149 single-shell tanks; (2) decommissioning of the Fast Flux Test Facility, a nuclear test reactor, and its auxiliary facilities; and (3) continued and expanded solid waste management operations on site, including the disposal of Hanford's LLW and MLLW, and limited volumes of LLW and MLLW from other DOE sites. The Draft EIS also analyzes no action alternatives for each of the three types of proposed actions as required under NEPA for use as a basis for comparison of the alternatives.

In the Draft EIS, DOE narrowed its range of preferred alternatives to five (Section S.7.1 of the Summary and Section 2.12 of the main volume). Three of these alternatives contain options for treating the waste from specific tanks as mixed TRU waste (approximately 3 million gallons) that would be prepared as necessary and shipped to WIPP for disposal. Based on further consideration, DOE has concluded that its preference is to manage the waste from these tanks by treating it through the WTP currently under construction as either high-level waste or low-activity waste as would be the case with the other waste to be treated in each alternative; it would thus not be shipped to WIPP for disposal. Ecology, a cooperating agency on this EIS, has requested the following modification to its Foreword in response to that change:

Ecology acknowledges that subsequent to publishing the draft EIS, DOE has revised its preferred alternative to propose that waste from specific Hanford tanks containing what DOE believes might be mixed TRU waste be treated at Hanford through the WTP. This change does not alter Ecology's expectations concerning this waste. Because Ecology has had, and continues to have, legal and technical concerns with any Hanford tank waste being classified as mixed TRU waste, Ecology has always assumed that the waste would be treated at Hanford through the WTP. Ecology expects that the end date for completing treatment of Hanford's tank waste will not be altered by treating the waste from these specific tanks through the WTP.

Regarding DOE's preferred alternative for waste management, (Section S.7.3 of the Summary and Section 2.12 of the main volume) DOE would not send LLW and MLLW from other DOE sites to Hanford for disposal (with some limited specific exceptions) at least until the WTP is operational, consistent with DOE's proposed settlement agreement with the State of Washington. Off-site waste would be addressed after the WTP is operational subject to appropriate NEPA review. Although the Draft EIS considers the cumulative impacts of the potential receipt of GTCC LLW at Hanford, DOE is preparing a separate EIS on GTCC LLW disposition. However, similar to its preference regarding the importation of LLW and MLLW, DOE announces that it does not prefer to import GTCC LLW to Hanford at least until the WTP is operational.

Issued in Washington, DC, on December 10, 2009.
Inés R. Triay,
Assistant Secretary for Environmental Management.

[FR Doc. E9-30173 Filed 12-17-09; 8:45 am]

BILLING CODE 6450-01-P